DEPARTMENT OF ENERGY

Federal Energy Regulatory Commission

[Project No. 14439-001]

Hawks Nest Hydro, LLC; Notice of Application Tendered for Filing With the Commission and Establishing Procedural Schedule for Licensing and Deadline for Submission of Final Amendments

Take notice that the following hydroelectric application has been filed with the Commission and is available for public inspection.

a. Type of Application: New Major License.

b. Project No.: 14439-001.

c. Date Filed: December 29, 2015.

d. Applicant: Hawks Nest Hydro, LLC (Hawks Nest Hydro).

e. Name of Project: Glen Ferris Hydroelectric Project.

f. Location: The existing project is located on the Kanawha River, in Fayette County, West Virginia. The project does not occupy any federal lands.

g. Filed Pursuant to: Federal Power Act, 16 U.S.C. 791 (a)-825(r).

h. Applicant Contact: Steven Murphy, Manager, Licensing, Brookfield Renewable Energy Group, 33 West 1st Street South, Fulton, New York 13069; Telephone (315) 598-6130.

i. FERC Contact: Monir Chowdhury, (202) 502-6736 or monir.chowdhury@ferc.gov.

j. This application is not ready for environmental analysis at this time.

k. Project Description: The existing Glen Ferris Hydroelectric Project consists of: (1) A low concrete dam with a maximum height of 12 feet above the river bed and a crest elevation of 651.0 feet National Geodetic Vertical Datum of 1929 (NGVD29), consisting of (from left to right—looking downstream) (i) a 590-foot-long spillway section that generally curves upstream; (ii) a 128-foot-long five-bay stoplog sluice; (iii) a 2,132-foot-long right spillway that runs diagonally in a downstream direction; (iv) a trash sluice section; (v) a 54-foot-long by 38-foot-wide east powerhouse with a 62-foot-wide intake structure; and (vi) a 64.5-foot-long by 63-foot-wide west powerhouse with a 82.3-foot-wide intake structure, with both powerhouses integral to the dam; (2) a 190-acre reservoir with a gross storage capacity of approximately 1,500 acre-feet at the dam crest elevation of 651.0 feet NGVD29; (3) two turbine-generator units in the east powerhouse, each with a rated capacity of approximately 1.9 megawatts (MW); (4) six turbine-generator units in the west powerhouse, each with a rated capacity of approximately 0.4 MW; (5) a 4-mile-long, 13.8-kilovolt transmission line; and (6) appurtenant facilities.

The project is currently operated in a run-of-river mode with no usable storage capacity. Hawks Nest Hydro proposes to continue run-of-river operation. The project generates an annual average of 41,482 megawatt-hours.

l. Locations of the Application: A copy of the application is available for review at the Commission in the Public Reference Room or may be viewed on the Commission's Web site at http://www.ferc.gov using the “eLibrary” link. Enter the docket number excluding the last three digits in the docket number field to access the document. For assistance, contact FERC Online Support at FERCOnlineSupport@ferc.gov or toll-free at 1-866-208-3676, or for TTY, (202) 502-8659. A copy is also available for inspection and reproduction at the address in item (h) above.

m. You may also register online at http://www.ferc.gov/docs-filing/esubscription.asp to be notified via email of new filings and issuances related to this or other pending projects. For assistance, contact FERC Online Support.

n. Procedural Schedule: The application will be processed according to the following preliminary Hydro Licensing Schedule. Revisions to the schedule may be made as appropriate.

Milestone | Target date
Notice of Acceptance/Notice of Ready for Environmental Analysis | February 2016.
Filing of recommendations, preliminary terms and conditions, and fishway prescriptions | April 2016.
Commission issues EA | August 2016.
Comments on EA | September 2016.
Modified Terms and Conditions | November 2016.
Commission Issues Final EA, if necessary | February 2017.

o. Final amendments to the application must be filed with the Commission no later than 30 days from the issuance date of the notice of ready for environmental analysis.

Dated: January 11, 2016.
Nathaniel J. Davis, Sr.,
Deputy Secretary.

[FR Doc. 2016-00710 Filed 1-14-16; 8:45 am]

BILLING CODE 6717-01-P